CORPORATION FOR NATIONAL AND COMMUNITY SERVICE

Agency Information Collection Activities; Submission to the Office of Management and Budget for Review and Approval; Comment Request; Application Package for Schools of National Service Collection Formerly the Segal Education Award Matching Program

AGENCY: Corporation for National and Community Service.

ACTION: Notice of information collection; request for comment.

SUMMARY: The Corporation for National and Community Service, operating as AmeriCorps, has submitted a public information collection request (ICR) entitled Schools of National Service for review and approval in accordance with the Paperwork Reduction Act.

DATES: Written comments must be submitted to the individual and office listed in the ADDRESSES section by February 9, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Rhonda Taylor, at 202-355-2202 or by email to rtaylor@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on Thursday, September 2, 2021 at Vol. 86, No. 168. This comment period ended November 1, 2021. No public comments were received from this Notice.

Title of Collection: Day of Service Project Collection Tool.

OMB Control Number: 3045-0122.

Type of Review: Renewal.

Respondents/Affected Public: Businesses and organizations.

Total Estimated Number of Annual Responses: 200.

Total Estimated Number of Annual Burden Hours: 100.

Abstract: AmeriCorps seeks to secure educational benefits from colleges, universities and other qualified educational institutions for AmeriCorps alumni seeking to attend their institution. This collection allows AmeriCorps and the institution to enhance the educational opportunities available to AmeriCorps alumni because of their service. The program now has a new name, Schools of National Service. The updated form design should make it easier to complete the form and easier for alumni to learn about benefits available to them. AmeriCorps also seeks to continue using the currently approved information collection until the revised information collection is approved by OMB. The currently approved information collection is due to expire on 10/31/2021.

Dated: January 3, 2022.
Rhonda Taylor,
Director of Partnerships and Program Engagement.

[FR Doc. 2022-00222 Filed 1-7-22; 8:45 am]

BILLING CODE 6050-28-P